DEPARTMENT OF COMMERCE

International Trade Administration

[A-570-815]

Sulfanilic Acid From the People's Republic of China; Final Results and Final Partial Rescission of Antidumping Duty Administrative Review

AGENCY: Import Administration, International Trade Administration, Department of Commerce.

EFFECTIVE DATE: January 15, 2002.

SUMMARY: On September 10, 2001, the Department of Commerce (the Department) published the preliminary results of its administrative review of the antidumping duty order on sulfanilic acid from the People's Republic of China. The review covers exports of this merchandise to the United States for the period August 1, 1999, through July 31, 2000, and three firms: Zhenxing Chemical Industry Company (Zhenxing), Yude Chemical Industry Company (Yude), and Baoding Chemical Industry Import and Export Corporation (Baoding). The final results of this review indicate that there are dumping margins only for Zhenxing and the “PRC enterprise.”

We find that Baoding acted as Zhenxing's shipping agent in preparing Zhenxing's export documents and coordinating its shipments of subject merchandise to the United States during the POR. Therefore, we are rescinding the review of Baoding since we did not find Baoding to be involved in any sales of sulfanilic acid to the United States other than those reported by Zhenxing. In addition, we are rescinding the review with respect to Yude because Yude did not export the subject merchandise to the United States during the period of review (POR). We have made changes in the margin calculations for these final results which are listed below in the “Final Results of the Review” section of this notice.

FOR FURTHER INFORMATION CONTACT: Sean Carey or Dana Mermelstein, Import Administration, International Trade Administration, U.S. Department of Commerce, 14th Street and Constitution Avenue NW., Washington, DC 20230 at (202) 482-3964 or (202) 482-1391, respectively.

SUPPLEMENTARY INFORMATION:

Applicable Statute and Regulations

Unless otherwise indicated, all citations to the statute are references to the Tariff Act of 1930 (the Act), as amended. In addition, unless otherwise indicated, all citations to the Department's regulations are to the regulations codified at 19 CFR part 351 (2001).

Background

On September 10, 2001, the Department published the preliminary results of the administrative review of the antidumping duty order on sulfanilic acid. See Sulfanilic Acid from the People's Republic of China; Preliminary Results of Antidumping Duty Administrative Review (Preliminary Results), 66 FR 47003 (September 10, 2001). Petitioner filed a supplemental submission on September 28, 2001, of additional publicly available information (PAI) to value factors of production. On October 1, 2001, respondents also submitted, on a timely basis, PAI for the Department's consideration in the instant administrative review. Petitioner filed additional factual information in rebuttal to respondents PAI on October 10, 2001. On November 2, 2001, the Department issued the verification report discussing our on-site inspection of relevant sales and financial records. Respondents filed a case brief with the Department on November 16, 2001, and petitioner submitted a rebuttal brief to the Department on November 21, 2001. Finally, at respondents' request, a hearing was held at the Department on November 29, 2001. The hearing was attended by both respondents and petitioner.

Scope of Review

Imports covered by this review are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.22 of the Harmonized Tariff Schedule (HTS), contains 96 percent minimum sulfanilic acid, 1.0 percent maximum aniline, and 1.0 percent maximum alkali insoluble materials. Refined sulfanilic acid, also classifiable under the subheading 2921.42.22 of the HTS, contains 98 percent minimum sulfanilic acid, 0.5 percent maximum aniline and 0.25 percent maximum alkali insoluble materials.

Sodium salt (sodium sulfanilate), classifiable under the HTS subheading 2921.42.90, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of this proceeding is dispositive.

Period of Review

The review period is August 1, 1999 through July 31, 2000.

Verification

As provided in section 782(i) of the Act, we verified information provided by the respondents using standard verification procedures, including on-site inspection of the manufacturer's facilities, and the examination of relevant sales and financial records. The results of our verification are discussed in the verification report, a public version of which is on file in the Central Records Unit (CRU), room B-099 of the Main Commerce Building.

Final Rescission of Review with Respect to Yude

In the last administrative review, the Department did not reach the issue of whether to collapse Zhenxing and Yude due to our determination to assign the PRC-wide rate to Yude and Zhenxing as adverse facts available. See Sulfanilic Acid from the People's Republic of China; Final Results of Administrative Review, 66 FR 15837 (March 21, 2001) and accompanying Decision Memo at Comment 10, on file in the CRU. For purposes of this review, the Department did not analyze the issue of whether to collapse Yude and Zhenxing because we are rescinding the review with respect to Yude, as Yude did not export the subject merchandise to the United States during the POR.

Separate Rate Analysis for Zhenxing

It is the Department's standard policy to assign to all exporters of the merchandise subject to review in non-market economy countries a single rate, unless an exporter can affirmatively demonstrate an absence of government control, both in law (de jure) and in fact (de facto), with respect to exports. See Mitsubishi Heavy Industries, Ltd., v. U.S., 54 F.Supp 2d 1183, (CIT 1999). Based on our findings at verification and our analysis of comments received from the interested parties, we continue to find an absence of government control, both in law and in fact, over Zhenxing's export activities, and determine that a separate rate should be applied to Zhenxing. For further discussion of the Department's preliminary determination regarding the issuance of separate rates, see Separate Rates Decision Memorandum for Barbara Tillman, Director, Office of AD/CVD Enforcement VII, dated August 31, 2001. A public version of this memorandum is on file in the CRU.

Analysis of Comments Received

As noted above, specific issues and comments raised in the respondents' case brief and petitioner's rebuttal brief are addressed in the Decision Memorandum, which is hereby adopted by this notice. A list of issues which parties have raised and to which we have responded, all of which are in the Decision Memorandum, is attached to this notice as Appendix I. Parties can find a complete discussion of all issues raised in this review and the corresponding recommendations in this public memorandum which is on file in the Department's CRU. In addition, a complete version of the Decision Memorandum can be accessed directly on the Internet at http://ia.ita.doc.gov.

Changes Since the Preliminary Results

Based on our analysis of comments received, we have made certain changes in the margin calculations. For a discussion of the issues and changes in the margin calculation for Zhenxing, refer to the Decision Memorandum and the Department's Final Results Analysis Memorandum for Barbara Tillman, Director, Office of AD/CVD Enforcement VII, dated January 8, 2002. A public version of these memoranda are on file in the CRU.

Final Results of Review

We determine the weighted average dumping margin for Zhenxing for the period August 1, 1999 through July 31, 2000 to be 54.40 percent. Pursuant to 19 CFR 351.224(b), the Department will disclose to parties to the proceeding any calculations performed in connection with these final results within five days after the date of publication of this notice.

Duty Assessments and Cash Deposit Requirements

The following cash deposit requirements will be effective upon publication of this notice of final results of administrative review for all shipments of sulfanilic acid from the PRC entered, or withdrawn from warehouse, for consumption on or after the date of publication, as provided by section 751(a)(2)(C) of the Act: (1) The cash deposit rate for the reviewed company listed above will be the rate for that firm established in the final results of this review; (2) for companies previously found to be entitled to a separate rate and for which no review was requested, the cash deposit rate will be the rate established in the most recent review of that company; (3) for all other PRC exporters of subject merchandise, the cash deposit rate will be the PRC-wide rate of 85.20 percent; and (4) the cash deposit rate for non-PRC exporters of subject merchandise from the PRC will be the rate applicable to the PRC supplier of that exporter. These deposit requirements, when imposed, shall remain in effect until publication of the final results of the next administrative review.

Notification of Interested Parties

This notice serves as a final reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777 (i)(1) of the Act.

Dated: January 8, 2002.
Faryar Shirzad,
Assistant Secretary for Import Administration.,

Appendix I: Issues Discussed in Decision Memorandum

(See Web address http://ia.ita.doc.gov)

Comments and Responses

1. Surrogate Value for Aniline.

2. Calculation of Indirect Selling Expenses.

3. Calculation of Packing Expenses.

4. Calculation of Overhead used for the Constructed Export Price.

5. Deduction of Duties from U.S. Sales Price.

[FR Doc. 02-971 Filed 1-14-02; 8:45 am]

BILLING CODE 3510-DS-P